DEPARTMENT OF JUSTICE

Antitrust Division

Notice Pursuant to the National Cooperative Research and Production Act of 1993—National Armaments Consortium

Notice is hereby given that, on October 9, 2020, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, CEA Technologies, Inc., Hanover, MD; Syntec Technologies, Inc., Rochester, NY; Mobilestack, Inc., Dublin, CA; Technology Advancement Group, Inc., Dulles, VA; Cervello Technologies, LLC, Clearwater, FL; Carahsoft Technology Corporation, Reston, VA; Rajant Corporation, Malvern, PA; Black Fur Industries, LLC, Tucson, AZ; GS Engineering, Inc., Houghton, MI; IEH Corporation, Brooklyn, NY; Decatur Mold Tool & Eng. Co. Inc., North Vernon, IN; Hyperion Technology Group, Inc., Tupelo, MS; SOLUTE, Inc., San Diego, CA; Precision Inc., Minneapolis, MN; Ignite Fueling Innovation, Inc., Huntsville, AL; NanoVox LLC, Beaverton, OR; Programs Management Analytics & Technologies, Inc., San Diego, CA; AM General LLC, Auburn Hills, MI; Chemring Energetic Devices, Downers Grove, IL; Applied Information Sciences, Inc., Reston, VA; G2 Ops, Inc., Virginia Beach, VA; Wilder Systems LLC, Austin, TX; MORSECORP, INC., Cambridge, MA; TeleCommunication Systems, Inc., Annapolis, MD; Vali, Inc., Huntsville, AL; Mandus Group LLC, Rock Island, IL; Munro & Associates, Inc., Auburn Hills, MI; Sigmatech, Inc., Huntsville, AL; Deloitte Consulting LLP, Arlington, VA; Rocal Corp. dba Rebling Plastics, Warrington, PA; Applied Nanotech Inc., Austin, TX; VetAble Technologies LLC, Brandon, FL; KMS Solutions, LLC, Alexandria, VA; HII Technical Solutions Corporation, Virginia Beach, VA; L3Harris Technologies Power Paragon, Inc., Anaheim, CA; and Del Sigma Technologies LLC, Rockford, MI have been added as parties to this venture.

Also, SiliconScapes, LLC, State College, PA; Advance Concepts Engineering, LLC, Howell, NJ; Cyan Systems, Santa Barbara, CA; STG, Inc., Reston, VA; Expal USA, Inc., Marshall, TX; Laser Techniques Company, LLC, Redmond, WA; Protection Engineering Consultants, LLC, San Antonio, TX; Grid Logic, Inc., Lapeer, MI; WINTEC, Incorporated, Navarre, FL; Daniel Defense, Inc., Black Creek, GA; Peregrine Technical Solutions, LLC, Yorktown, VA; Eclipse Energy Systems, Inc., St. Petersburg, FL; Granite State Manufacturing, Manchester, NH; Ten-X Ammunition, Inc., Rancho Cucamonga, CA; Interlink Electronics, Inc., Westlake Village, CA; Open Chamber Systems, LLC, Enola, PA; Spirit AeroSystems, Inc., Wichita, KS; Systems & Technology Researc, Woburn, MA; University of Massachusetts (Center for UMass-Industry Research on Polymers), Amherst, MA; Tungsten Heavy Powder, Inc., San Diego, CA; System Studies & Simulation, Inc. (S3), Huntsville, AL; TeraSys Technologies LLC, El Dorado Hills, CA; Technology Service Corporation—California, Los Angeles, CA; SCD.USA Infrared, LLC, West Melbourne, FL; SEMATECH, Inc., Albany, NY; The Shepherd Chemical Company, Norwood, OH; Superior Forge and Steel Corporation, Lima, OH; Fischer Custom Communications, Inc., Torrance, CA; DEFENSEWERX, Fort Walton Beach, FL; Volunteer Aerospace LLC, Knoxville, TN; Data Intelligence Technologies, Inc., Washington, DC; Fathom 4, LLC, Charleston, SC; Universal Technology Company, LLC, Dayton, OH; Ideal Innovations, Inc., Arlington, VA; Science and Engineering Services, LLC, Huntsville, AL; and Undersea Solutions Group, Panama City Beach, FL have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on July 14, 2020. A notice was published in the Federal Register pursuant to Section 6(b) of the Act on July 31, 2020 (85 FR 46177).

Suzanne Morris,
Chief, Premerger and Division Statistics, Antitrust Division.

[FR Doc. 2020-24070 Filed 10-29-20; 8:45 am]

BILLING CODE 4410-11-P